DEPARTMENT OF HOMELAND SECURITY

Coast Guard

[USCG-2003-16682]

Interpretations of Vessel Tonnage Measurement Regulations

AGENCY: Coast Guard, DHS.

ACTION: Notice.

SUMMARY: This notice addresses the use of a Marine Safety Center Technical Note (MTN) for interpreting the Coast Guard's vessel tonnage measurement regulations. While the regulations provide the necessary framework for assigning gross and net tonnages and registered dimensions to vessels, detailed interpretations of the regulations must be periodically made and disseminated to organizations authorized to perform tonnage measurement on the Coast Guard's behalf. This notice advises the public on how an MTN on tonnage measurement may be obtained and the process by which this MTN is periodically updated.

EFFECTIVE DATE: This notice is effective on December 22, 2003.

FOR FURTHER INFORMATION CONTACT: If you have questions on this notice, call Peter Eareckson, Chief, Tonnage Division, United States Coast Guard, (202) 366-6502. If you have questions on viewing or submitting material to the docket, call Andrea M. Jenkins, Program Manager, Docket Operations, telephone (202) 366-0271.

SUPPLEMENTARY INFORMATION:

Comments

If you have comments on how the Marine Safety Center Technical Note (MTN) on tonnage measurement may be obtained and the process by which the MTN is periodically updated, please submit your comments, identified by Coast Guard docket number USCG-2003-16682, to the Docket Management Facility located at the U.S. Department of Transportation. To avoid duplication, please use only one of the following methods:

(1) Web site: http://dms.dot.gov.

(2) Mail: Docket Management Facility, U.S. Department of Transportation, 400 Seventh Street, SW., Washington, DC 20590-0001.

(3) Fax: (202) 493-2251.

(4) Delivery: Room PL-401 on the Plaza level of the Nassif Building, 400 Seventh Street, SW., Washington, DC, between 9 a.m. and 5 p.m., Monday through Friday, except Federal holidays. The telephone number is (202) 366-9329.

(5) Federal eRulemaking Portal: http://www.regulations.gov.

Viewing Comments and Documents

To view comments, as well as documents mentioned in this notice as being available in the docket, go to http://dms.dot.gov at any time and conduct a simple search using the docket number. You may also visit the Docket Management Facility in room PL-401 on the Plaza level of the Nassif Building, 400 Seventh Street, SW., Washington, DC, between 9 a.m. and 5 p.m., Monday through Friday, except Federal holidays.

Background

The Coast Guard is responsible for maintaining regulations for assigning gross and net tonnages and registered dimensions to vessels. These regulations are found in title 46, Code of Federal Regulations (CFR), part 69, Measurement of Vessels. As was true for predecessor Federal agencies responsible for interpreting the tonnage measurement regulations, the Coast Guard has found it necessary to establish interpretations of these regulations to respond to novel situations, on a case-by-case basis, through policy decisions. Periodically, these policy decisions are evaluated as to their appropriateness for incorporation into the tonnage measurement regulations.

MTN 01-99, Tonnage Technical Policy

MTN 01-99, Tonnage Technical Policy, is the current vehicle for ensuring that policy decisions are available to organizations authorized to perform tonnage measurement on behalf of the Coast Guard. MTNs are policy documents developed and issued by the Coast Guard Marine Safety Center (MSC), a Coast Guard headquarters unit responsible for tonnage measurement, plan review, and a number of other technical functions. All MTNs, including MTN 01-99, are posted on the MSC's Web site at www.uscg.mil/hq/msc. A copy of the current version of MTN 01-99 is available in the docket (see “Viewing Comments and Documents,” above.) While MTN 01-99 is intended for use by organizations authorized to perform tonnage measurement on behalf of the Coast Guard, we recognize that it contains information that may affect decisions on vessel designs and that the public may benefit by our making it widely available to parties other than authorized measurement organizations.

Changes to MTN 01-99

The MSC periodically issues changes to MTN 01-99 to keep it up-to-date with relevant policy decisions. Since it was first published in 1999, MTN 01-99 has undergone six changes. The current version of the document (MTN 01-99 Change 6) includes interpretations summarized as follows:

1. Clarifications on the treatment of uncovered spaces with high sides under the convention measurement system.

2. Interpretations of the International Maritime Organization (IMO) Tonnage Measurement Circular (TM. 5/Circ. 5), dated June 10, 1994.

3. Interpretations relating to methods of calculating volumes that are considered to be accepted naval architectural practice.

4. Novel Craft interpretations for offshore supply vessels (OSVs) that provide for ignoring uncovered cargo deck space when determining the total volume of all enclosed space.

5. Clarifications on the number of allowed “zero area” tonnage stations under the standard measurement system.

6. Criteria for tonnage length termination points.

7. Criteria relative to ordinary frames including, maximum frame spacing and treatment of the frame openings and other discontinuities.

8. Interpretations on establishing breadth measurements under the standard measurement system for multi-hull vessels.

9. Interpretations eliminating the prohibition against using tonnage openings to exempt passenger space that is located on the uppermost complete deck.

10. Interpretations relative to the progression of open space in structures under the standard measurement system.

12. A procedure for calculating the tonnage of exemptible under-deck water-ballast spaces.

13. Clarification that a two-deck vessel cannot be assigned single tonnages under the dual measurement system, unless a load line is assigned.

14. Interpretations relative to hull measurement termination points under the simplified measurement system.

15. Clarifications addressing the treatment of various atypical shapes under the simplified measurement system, such as pontoon hulls, cathedral/multi-“vee” hulls, and drydocks.

To provide a mechanism for notification when a change to the MTN has been issued, the MSC's Web site has been recently updated to allow members of the public to add their e-mail addresses to an electronic mailing list for such notification. Also, in the future, we will notify the public via a notice in the Federal Register of changes to MTN 01-99 that are believed to be of significant interest to the maritime industry.

Dated: December 16, 2003.
Joseph J. Angelo,
Director of Standards, Marine Safety, Security and Environmental Protection.

[FR Doc. 03-31389 Filed 12-19-03; 8:45 am]

BILLING CODE 4910-15-P